NATIONAL ARCHIVES AND RECORDS ADMINISTRATION

[NARA-2018-050]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when agencies no longer need them for current Government business. The records schedules authorize agencies to preserve records of continuing value in the National Archives of the United States and to destroy, after a specified period, records lacking administrative, legal, research, or other value. NARA publishes notice in the Federal Register for records schedules in which agencies propose to destroy records they no longer need to conduct agency business. NARA invites public comments on such records schedules.

DATES: NARA must receive requests for copies in writing by August 17, 2018. Once NARA finishes appraising the records, we will send you a copy of the schedule you requested. We usually prepare appraisal memoranda that contain additional information concerning the records covered by a proposed schedule. You may also request these. If you do, we will also provide them once we have completed the appraisal. You have 30 days after we send to you these requested documents in which to submit comments.

ADDRESSES: You may request a copy of any records schedule identified in this notice by contacting Records Appraisal and Agency Assistance (ACRA) using one of the following means:

Mail: NARA (ACRA); 8601 Adelphi Road; College Park, MD 20740-6001.

Email: request.schedule@nara.gov.

FAX: 301-837-3698.

You must cite the control number, which appears in parentheses after the name of the agency that submitted the schedule, and a mailing address. If you would like an appraisal report, please include that in your request.

FOR FURTHER INFORMATION CONTACT: Margaret Hawkins, Director, by mail at Records Appraisal and Agency Assistance (ACRA); National Archives and Records Administration; 8601 Adelphi Road; College Park, MD 20740-6001, by phone at 301-837-1799, or by email at request.schedule@nara.gov.

SUPPLEMENTARY INFORMATION: NARA publishes notice in the Federal Register for records schedules they no longer need to conduct agency business. NARA invites public comments on such records schedules, as required by 44 U.S.C. 3303a(a).

Each year, Federal agencies create billions of records on paper, film, magnetic tape, and other media. To control this accumulation, agency records managers prepare schedules proposing records retention periods and submit these schedules for NARA's approval. These schedules provide for timely transfer into the National Archives of historically valuable records and authorize the agency to dispose of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless otherwise specified. An item in a schedule is media neutral when an agency may apply the disposition instructions to records regardless of the medium in which it creates or maintains the records. Items included in schedules submitted to NARA on or after December 17, 2007, are media neutral unless the item is expressly limited to a specific medium. (See 36 CFR 1225.12(e).)

Agencies may not destroy Federal records without Archivist of the United States' approval. The Archivist approves destruction only after thoroughly considering the records' administrative use by the agency of origin, the rights of the Government and of private people directly affected by the Government's activities, and whether or not the records have historical or other value.

In addition to identifying the Federal agencies and any subdivisions requesting disposition authority, this notice lists the organizational unit(s) accumulating the records (or notes that the schedule has agency-wide applicability when schedules cover records that may be accumulated throughout an agency); provides the control number assigned to each schedule, the total number of schedule items, and the number of temporary items (the records proposed for destruction); and includes a brief description of the temporary records. The records schedule itself contains a full description of the records at the file unit level as well as their disposition. If NARA staff has prepared an appraisal memorandum for the schedule, it also includes information about the records. You may request additional information about the disposition process at the addresses above.

Schedules Pending

1. Department of Agriculture, Animal and Plant Health Inspection Service (DAA-0463-2017-0002, 2 items, 2 temporary items). Records of an electronic information cost management system. Includes routine tracking records for the balance of allocations for all levels of the program, such as ledgers, status processes, and reporting documents.

2. Department of Agriculture, Forest Service (DAA-0095-2018-0106, 1 item, 1 temporary item). Administrative records related to solid waste systems. Included are waste system project records that contain documentation of solid waste disposal and collection.

3. Department of Agriculture, Forest Service (DAA-0095-2018-0108, 1 item, 1 temporary item). Program records related to travel management, including administrative analysis records and reports of the Travel Management Program.

4. Department of Agriculture, Forest Service (DAA-0095-2018-0110, 3 items, 3 temporary items). Administrative records related to transportation system development. Included are records that contain documentation of construction projects, system structures, and standard specifications.

5. Department of Agriculture, Forest Service (DAA-0095-2018-0111, 2 items, 2 temporary items). Administrative records related to operation and maintenance of road systems, including inspection reports, expenditure documents, and road system plans and studies.

6. Department of Health and Human Services, Indian Health Service (DAA-0513-2018-0002, 2 items, 2 temporary items). The Office of Clinical and Preventive Services program records. Included are medical staff applicant credentialing and privileging records such as correspondence, meeting minutes, and quality assurance files.

7. Department of Homeland Security, Transportation Security Administration (DAA-0560-2018-0003, 1 item, 1 temporary item). Forms signed by law enforcement officers acknowledging that they have read and will adhere to agency and department policies on use of force and firearms.

8. Department of Homeland Security, Transportation Security Administration (DAA-0560-2018-0004, 1 item, 1 temporary item). Records related to the designation of Senior Federal Air Marshals, including program administration and candidate files.

9. Department of Justice, Federal Bureau of Investigation (DAA-0065-2016-0001, 2 items, 2 temporary items). Audio, video, or other electronic surveillance recordings created in the course of investigations.

10. National Archives and Records Administration, Research Services (N2-169-18-2, 1 item, 1 temporary item). Correspondence record slips of the Foreign Economic Administration (1944-1945) used to track and control correspondence as it moved through the agency. These records were accessioned to the National Archives but lack sufficient historical value to warrant continued preservation.

11. Office of the Housing Expediter, Office of Rent Stabilization (DAA-0252-2018-0001, 7 items, 6 temporary items). Routine administrative records documenting the agency's rent control activities. Included are appeals of rent increases or decreases, property inspections, exhibits, correspondence, affidavits, rent inspector reports, property surveys, and attorney's interpretation files. Proposed for permanent retention are rent decontrol surveys that document the local economic conditions in urban areas throughout the Southeast region of the United States in the period immediately after World War II.

12. Office of Personnel Management, Federal Executive Boards (DAA-0478-2018-0003, 16 items, 11 temporary items). Records related to headquarters and regional policy and operations, including routine meetings, training products, interim reports, and working papers. Proposed for permanent retention are central program and project records, final summary reports of significant regional and central activities, and government-wide training products.

13. Securities and Exchange Commission, Office of the Chief Operating Officer (DAA-0266-2017-0011, 2 items, 1 temporary item). Records related to the coordination of mission-related audits. Proposed for permanent retention are records related to mission-related audit findings and follow-up on recommendations.

14. United States Judiciary, Judicial Conference of the United States (DAA-0516-2018-0001, 2 items, 2 temporary items). Federal Judicial Center records related to the Women Judges Oral History Project, including transcripts and audio recordings.

Laurence Brewer,
Chief Records Officer for the U.S. Government.

[FR Doc. 2018-15281 Filed 7-17-18; 8:45 am]

BILLING CODE 7515-01-P